CORPORATION FOR NATIONAL AND COMMUNITY SERVICE

Agency Information Collection Activities; Submission to the Office of Management and Budget for Review and Approval; Response to Comment Request; Civic Engagement and Volunteering: Current Population Survey Supplement

AGENCY: Corporation for National and Community Service.

ACTION: Notice; response to comments.

SUMMARY: The Corporation for National and Community Service (CNCS) published a document in the Federal Register on July 1, 2020 requesting public comment on a public information collection request (ICR) entitled The Civic Engagement and Volunteering Supplement (CEV) for review and approval in accordance with the Paperwork Reduction Act. This document provides the agency response to comments received during the 60-day comment period.

FOR FURTHER INFORMATION CONTACT: Amy Borgstrom, Associate Director of Policy, 202-422-2781.

SUPPLEMENTARY INFORMATION:

Comments

A 60-day Notice requesting public comment was published in the Federal Register on July 1, 2020 at Vol. 85 No. 127 FR 39537 39538. This comment period ended August 31, 2020. CNCS received 23 comments in response to the Notice. A majority of these comments (n = 18) supported the formal comments submitted by AL!VE, a national membership organization of over 500 leaders and professionals in volunteer engagement, and ASC, the association of the 52 Governor-supported state service commissions, which administer nearly 80% of AmeriCorps State and National Funding and support an ethic of service in their states and territories. The comments submitted by each organization and referenced by 16 other organizations are available at the Federal eRulemaking Portal at https://beta.regulations.gov/document/CNCS-2020-0011-0020. In summary, the comments and agency responses to these coordinated and thoughtful comments are as follows:

Reinstate questions on types of activity, types of organization, who asked respondent to volunteer for the organization, and number of organizations volunteered with in past year. The re-designed supplement is intended to focus on the broader concept of civic engagement, of which volunteerism is one component. The re-designed supplement incorporates many of the recommendations made by the National Academy of Sciences, as well as recommendations made by experts in the field of civic engagement, social capital and volunteering. The agency reduced the number of questions based on Census recommendations to decrease burden and to increase response rates. The agency utilized statistical methods to validate the questions retained to ensure they measure desired constructs.

Add two new questions about barriers to volunteering and knowledge about how to volunteer. The re-designed supplement is intended to focus on the broader concept of civic engagement, of which volunteerism is one component. The re-designed supplement incorporates many of the recommendations made by the National Academy of Sciences, as well as recommendations made by experts in the field of civic engagement, social capital and volunteering. The agency reduced the number of questions based on Census recommendations to decrease burden and to increase response rates. The agency utilized statistical methods to validate the questions retained to ensure they measure desired constructs. The agency is conducting other volunteer research through its grant program to explore more detailed questions about civic engagement and volunteering.

Request that the balance of the questions be provided between the civic and volunteering questions. The re-designed supplement is intended to focus on the broader concept of civic engagement, of which volunteerism is one component. The re-designed supplement incorporates many of the recommendations made by the National Academy of Sciences, as well as recommendations made by experts in the field of civic engagement, social capital and volunteering. The agency reduced the number of questions based on Census recommendations to decrease burden and to increase response rates. The agency utilized statistical methods to validate the questions retained to ensure they measure desired constructs.

Request that CNCS reinstate its practice of conducting a standard data analysis and report of data collected in the Volunteering and Civic Life Assessment, making results accessible and searchable to the general public. The agency has experienced staffing constraints in the Office of Research and Evaluation and the Office of Information Technology making it challenging to conduct analysis, reporting, and public access to the information.

It is critical that CNCS does not lose sight of the volunteerism portion of its mission, which is how most Americans engage in giving back to their community . . . which includes a central focus on researching and promoting community volunteerism and volunteer engagement in America more broadly. The agency agrees and anticipates a continuation and future resourcing of its volunteer research program.

It is important for CNCS to fix the 2019 supplement so future data is high quality and comparable to past federal data collections (2002 to 2015).

Over a decade of national trend data indicates relatively little variation in the national rates of civic behaviors, including demographic variations. As such the volunteer research program has been expanded to include more local examinations of civic behaviors and to explore the use of alternative data sources. Keeping the instrument relatively stable for a third administration of the combined supplement will help ensure data quality moving forward.

Ensure that the federal government collects and reports annually on the trends in service and civic life. Over a decade of national trend data indicates relatively little variation in the national rates of civic behaviors, including demographic variations. As such the volunteer research program has been expanded to include more local examinations of civic behaviors and to explore the use of alternative data sources. Annual data on national service trends is collected via an annual member exit survey and is separate from this instrument which collects data from a nationally representative sample of the U.S. population who may or may not engage in civic behaviors like volunteering and who may or may not receive stipends like participants in national service programs. Statute and annual appropriations provide resources for this research—how is the agency using these resources? The agency uses Congressional appropriations to pay the U.S. Census Bureau to administer the VCLA/CEV supplement on a biannual schedule. When the CPS supplement is not being administered, the agency uses the appropriations to support its volunteer research grant program (for more information see https://www.nationalservice.gov/impact-our-nation/research-evaluation/research-competition). The agency has a different appropriations line for professional staffing which is the resource gap that has affected analysis, reporting, and access to the dataset.

In addition to these comments, there were requests to move the order of the survey items, combine questions, remove questions, and expand upon questions. Two requests for adding COVID-19 related questions and two requests for adding questions specific to disasters were received. The items in their current order and structure have been tested and used for the 2017 and 2019 administrations of the survey.

The agency's goal is to maintain relative stability in the instrument for a third administration to maintain the integrity and comparability of the data. Two new questions were added, however, to facilitate the transition from employment-related questions in the Current Population Survey to the questions in the CEV. These new questions address one request to add employment-based volunteering and civic engagement behaviors.

Finally, two additional types of comments were received. One category of comments references the importance of including volunteer engagement practitioners in agency decision-making about this national survey. The other type of comment references the importance of considering the full continuum of volunteering and civic behaviors and not just the more formal types of civic engagement behaviors measured in this supplement.

The agency remains committed to being responsive to the expertise and information needs of all public stakeholders. The agency's statutorily mandated volunteer research program will continue to evolve. The goal is continuous learning and improvement and this supplement is a key component of our overall volunteer research program.

The CEV, however, comes with constraints in terms of number of survey items and time demands we can ask of respondents. Addressing the wide range of important questions about volunteering and civic engagement of interest to practitioners, researchers, and policymakers will require a comprehensive, multi-faceted strategy. The agency has begun designing and implementing this multi-dimensional approach and looks forward to building upon progress made to date in partnership with all interested stakeholders.

Dated: September 9, 2020.
Mary Hyde,
Director, Office of Research and Evaluation.

[FR Doc. 2020-20222 Filed 9-17-20; 8:45 am]

BILLING CODE 6050-28-P